ELECTION ASSISTANCE COMMISSION

Publication of State Plan Pursuant to the Help America Vote Act

AGENCY: Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by Michigan.

DATES: This notice is effective upon publication in the Federal Register.

FOR FURTHER INFORMATION CONTACT: Bryan Whitener, Telephone 202-566-3100 or 1-866-747-1471 (toll-free).

Submit Comments: Any comments regarding the plan published herewith should be made in writing to the election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The current submission from Michigan amends the budget of the previous State plan to explain how the State will utilize approximately $18.3 million in FY 2004 requirements payments, which were not included in the original plan, and to reallocate funds among the election administration programs presented in the original plan. The amendment also clarifies the State's intention to add or to develop new capabilities to improve its statewide voter registration system, provisional ballots, voter education and election training programs, and other applications to improve the administration of Federal elections. In accordance with HAVA section 254(a)(12), the submission also provides information on how the State succeeded in carrying out the previous State plan.

Upon the expiration of thirty days from November 16, 2005, Michigan will be eligible to implement the material changes addressed in the plan that is published herein, in accordance with HAVA section 254(a)(11)(C). At that time, in accordance with HAVA section 253(d), Michigan may file a statement of certification to obtain the balance of its fiscal year 2004 requirements payment allocation. This statement of certification must confirm that the State is in compliance with all of the requirements referred to in HAVA section 253(b) and must be provided to the Election Assistance Commission in order for the State to receive a requirements payment under HAVA Title II, Subtitle D.

EAC notes that the plan published herein has already met the notice and comment requirements of HAVA section 256, as required by HAVA section 254(a)(11)(B). EAC wishes to acknowledge the effort that went into revising the State plan and encourages further public comment, in writing, to the State election official listed below.

State Election Official

Michigan

Rayan Anastor, Michigan Bureau of Elections, 430 W. Allegan St., 1st Floor, Lansing, MI 48918, Phone: 517-373-2540, Fax: 517-241-2784, E-mail: elections@michigan.gov.

Thank you for your interest in improving the voting process in America.

Dated: November 9, 2005.
Gracia M. Hillman,
Chair, Election Assistance Commission.

BILLING CODE 6820-KF-P

[FR Doc. 05-22663 Filed 11-15-05; 8:45 am]

BILLING CODE 6820-KF-C